DEPARTMENT OF LABOR

Employment and Training Administration

[TA-W-53,501]

Fishing Vessel (F/V) Exception, Homer, Alaska; Notice of Termination of Investigation

Pursuant to Section 221 of the Trade Act of 1974, as amended, an investigation was initiated on November 12, 2003 in response to a petition filed by a company official on behalf of workers of F/V Exception, Homer, Alaska.

The petition regarding the investigation has been deemed invalid. In order to establish a valid worker group, there must be at least three full-time workers employed at some point during the period under investigation. Workers of the group subject to this investigation did not meet this threshold level of employment. Consequently, the investigation has been terminated.

Signed at Washington, DC this 17th day of November 2003.
Linda G. Poole,
Certifying Officer, Division of Trade Adjustment Assistance.

[FR Doc. 03-31983 Filed 12-30-03; 8:45 am]

BILLING CODE 4510-30-P